DEPARTMENT OF HOMELAND SECURITY

Federal Emergency Management Agency

[Docket ID FEMA-2020-0010; OMB No. 1660-0033]

Agency Information Collection Activities: Submission for OMB Review; Comment Request; Residential Basement Floodproofing Certification

AGENCY: Federal Emergency Management Agency, Department of Homeland Security.

ACTION: 30 Day reinstatement notice and request for comments.

SUMMARY: The Federal Emergency Management Agency (FEMA), as part of its continuing effort to reduce paperwork and respondent burden, invites the general public to take this opportunity to comment on a reinstatement, without change, of a previously approved information collection for which approval has expired. FEMA will submit the information collection abstracted below to the Office of Management and Budget (OMB) for review and clearance in accordance with the requirements of the Paperwork Reduction Act of 1995. The submission will describe the nature of the information collection, the categories of respondents, the estimated burden (i.e., the time, effort and resources used by respondents to respond) and cost, and the actual data collection instruments used.

DATES: Comments must be submitted on or before March 22, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, email address FEMA-Information-Collections-Management@fema.dhs.gov or Joycelyn Collins, Underwriting Branch Program Analyst, Federal Insurance Directorate, Joycelyn.Collins@fema.dhs.gov, 202-701-3383.

SUPPLEMENTARY INFORMATION: Congress created the National Flood Insurance Program (NFIP) through enactment of the National Flood Insurance Act of 1968 (NFIA) (Title XIII of Pub. L. 90-448, 82 Stat. 476), found at 42 U.S.C. 4001 et seq. The NFIP is a Federal program enabling property owners in participating communities to purchase insurance as a protection against flood losses in exchange for state and community floodplain management requirements that reduce the risk of future flood damages. Communities participate in the NFIP based on an agreement between the community and FEMA. If a community adopts and enforces a floodplain management ordinance to reduce future flood risk to new construction in floodplains, FEMA will make flood insurance available within the community as a financial protection against flood losses. Accordingly, the NFIP is comprised of three key activities: Flood insurance, floodplain management, and flood hazard mapping.

As part of the minimum floodplain management requirements established by FEMA, NFIP participating communities generally must require that all new construction and substantial improvements of residential structures within areas identified by FEMA as Special Flood Hazard Areas (SFHA) Zones A1-30, AE and AH zones have the lowest floor, including the basement, elevated to or above the base flood level. See 44 CFR 60.3(c)(2). However, FEMA may grant exceptions to this requirement to communities that are not subject to tidal flooding, given the communities adopt standards for floodproofed residential basements below the base flood. 44 CFR 60.6(c). Communities requesting this exception must demonstrate that “areas of special flood hazard in which basements will be permitted are subject to shallow and low velocity flooding and that there is adequate flood warning time to ensure that all residents are notified of impending floods.” 44 CFR 60.6(c)(1).

Communities seeking the exception must also adopt certain floodplain management measures regarding the floodproofing of basements. See 44 CFR 60.6(c)(2). Such measures include that a professional engineer or architect inspect new or substantially improved buildings with basements and “certify that the basement design and methods of construction proposed are in accordance with accepted standards of practice for meeting the [residential basement floodproofing requirements]. 44 CFR 60.6(c)(2)(iv). This proposed information collection consists of the “Residential Basement Floodproofing Certificate,” which is used to document compliance with 44 CFR 60.6(c)(2)(iv).

This proposed information collection previously published in the Federal Register on April 7, 2020, at 85 FR 19496 with a 60-day public comment period. FEMA received three comments germane to this information collection (FEMA-2020-0010-0004; FEMA-2020-0010-0005; and FEMA-2020-0010-0003). FEMA considers one comment non-germane to the information collection because it merely reads “Docket ID FEMA 2020-0010 OMB 1660-0033”.

In the first germane comment, FEMA-2020-0010-0004, the anonymous commenter recommended that “[t]he form should be updated/reviewed to reflect/evaluate whether or not all or any of the April 2020 Flood Insurance Manual changes for floodproofing rating credit apply; based on the Flood Insurance Manual the updated guidance appears to be specific to nonresidential.” FEMA reviewed the April 2020 Flood Insurance Manual (available at https://go.usa.gov/xwGu2) and found that it only reflected changes to non-residential floodproofing requirements. This information collection applies only to residential basement floodproofing requirements, so FEMA finds no reason to adjust this information collection based on changes to the April 2020 Flood Insurance Manual.

In the second germane comment, FEMA-2020-0010-0005, the anonymous commenter recommended that “ `walls that are impermeable to the passage of water without human intervention' should be `walls that are substantially impermeable to the passage of water without human intervention.' ” FEMA disagrees with the commenter's recommendation because it deviates from the requirements of 44 CFR 60.6(c)(2)(i). Under applicable regulations, if FEMA allows a community to allow floodproofed residential basements pursuant to 44 CFR 60.6(c), the community must require that new residential construction “be designed and built so that any basement area, together with attendant utilities and sanitary facilities below the floodproofed design level, is watertight with walls that are impermeable to the passage of water without human intervention.” 44 CFR 60.6(c)(2)(i) (emphasis added). This language is mirrored in the current information collection. FEMA believes that the commenter may be confusing the requirements applicable to basements in non-residential buildings at 44 CFR 60.3(c)(3). This regulation states in part, that buildings “be designed so that below the base flood level the structure is watertight with walls substantially impermeable to the passage of water . . .” (emphasis added). These requirements do not apply to this information collection.

In the third germane comment, FEMA-2020-0010-0003, a former Executive Director of the Association of State Floodplain Managers (ASFPM) generally commented that ASFPM supports the continuation of the information collection, but he had concerns regarding how the form is used and the applicable regulations. First, the commenter expressed concern that individuals were submitting Residential Basement Floodproofing Certification forms for buildings located in communities not eligible to allow the construction of floodproofed residential basements. The commenter suggested adding a clear statement on FEMA's website to download the form that submission of a Residential Basement Floodproofing Certification form is only appropriate in certain eligible communities. Based on this comment, FEMA will add the recommended statement on the appropriate websites to help individuals avoid unnecessarily completing the form. Second, the commenter suggested enhancing FEMA's oversight of community compliance with the regulations concerning residential basement floodproofing at 44 CFR 60.6(c). FEMA is committed to ensuring the proper oversight of community compliance with the NFIP's floodplain management regulations and will ensure that communities' continued compliance with 44 CFR 60.6(c) is part of that oversight. Third, the commenter suggested that FEMA work with the United States Army Corps of Engineers to provide technical assistance and guidance on floodproofing basements. FEMA will consider providing additional assistance in the future. Fourth, the commenter recommended that if FEMA were to end the Residential Basement Floodproofing program, FEMA should develop a policy to address the status of homes that would no longer comply with floodplain management requirements as a result. FEMA does not plan to end this program at this time, but will take this comment under advisement if FEMA does discontinue the program in the future.

This information collection expired on April 30, 2020. FEMA is requesting a reinstatement, without change, of a previously approved information collection for which approval has expired. This notice is to notify the public that FEMA will submit the information collection abstracted below to OMB for review and clearance.

Collection of Information

Title: Residential Basement Floodproofing Certification.

Type of Information Collection: Reinstatement, without change, of a previously approved collection for which approval has expired.

OMB Number: 1660-0033.

Form Titles and Numbers: FEMA Form 086-0-24, Residential Basement Floodproofing Certification.

Abstract: The Residential Basement Floodproofing Certification, completed by a registered professional surveyor, engineer, or architect, is required to certify that floodproofing of a structure meets at least minimal floodproofing specifications. Residential structures that receive this certification are granted reduced rates on flood insurance premiums.

Affected Public: Businesses or other for profit.

Estimated Number of Respondents: 100.

Estimated Number of Responses: 100.

Estimated Total Annual Burden Hours: 325.

Estimated Total Annual Respondent Cost: $21,525.

Estimated Respondents' Operation and Maintenance Costs: $35,000.

Estimated Respondents' Capital and Start-Up Costs: $0.

Estimated Total Annual Cost to the Federal Government: $3,543.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown,
Senior Manager, Records Management Branch, Office of the Chief Administrative Officer, Mission Support, Federal Emergency Management Agency, Department of Homeland Security.

[FR Doc. 2021-03352 Filed 2-18-21; 8:45 am]

BILLING CODE 9110-52-P